BUREAU OF CONSUMER FINANCIAL PROTECTION

Renewal of Credit Union Advisory Council

AGENCY: Bureau of Consumer Financial Protection.

ACTION: Notice.

SUMMARY: The Bureau of Consumer Financial Protection (Bureau), after consultation with the Committee Management Secretariat of the General Services Administration, will establish the Credit Union Advisory Council (the committee or the CUAC) effective on March 21, 2019. The CUAC was established to consult with the Bureau in the exercise of its functions under the federal consumer financial laws as they pertain to credit unions with total assets of $10 billion or less.

FOR FURTHER INFORMATION CONTACT: Matt Cameron, Acting Staff Director, Office of Advisory Board and Councils, External Affairs, at 202-435-7708, or Matt.Cameron@cfpb.gov. If you require this document in an alternative electronic format, please contact CFPB_Accessibility@cfpb.gov.

SUPPLEMENTARY INFORMATION: In accordance with the provisions of the Federal Advisory Committee Act (FACA) (5 U.S.C. App.), the Bureau of Consumer Financial Protection hereby gives notice of re-establishment of the Credit Union Advisory Council. The CUAC is a discretionary committee being renewed for the purposes of compliance with FACA and applicable statutes. This committee is being renewed concurrently with the publication of this notice by filing a charter with the Director of the Bureau, the Committee Management Secretariat of the General Services Administration, the Library of Congress, the Committee on Banking, Housing, and Urban Affairs of the United States Senate, and the Committee on Financial Services of the United States House of Representatives. The charter will also be posted on the Bureau's website at www.consumerfinance.gov. This charter will expire two years after the filing date unless renewed by appropriate action.

The CUAC shall advise the Bureau in its exercise of its functions under the Federal consumer financial laws as they pertain to credit unions with total assets of $10 billion or less. To carry out the committee's purpose, the scope of its activities shall include providing information, and analysis in support of recommendations to the Bureau. The output of committee meetings should serve to better inform the Bureau's policy development, rulemaking, and engagement functions as they relate to credit unions.

The duties of the CUAC are solely advisory and shall extend only to the submission of advice and recommendations to the Bureau relating to the activities and operations of credit unions, which shall be non-binding on the Bureau. No determination of fact or policy will be made by the committee, and the committee will have no formal decision-making role and no access to confidential supervisory or other confidential information.

In appointing members to the CUAC, the Director shall seek to assemble members with diverse points of view, institution asset sizes, and geographical backgrounds. Only credit union employees (CEOs, compliance officers, government relations officials, etc.) will be considered for membership. Membership is limited to employees of credit unions with total assets of $10 billion or less that are not affiliates of depository institutions or credit unions with total assets of more than $10 billion. The CUAC shall consist of at least seven members serving two-year terms. Equal opportunity practices in accordance with the Bureau's policies shall be followed in all appointments to the CUAC.

Dated: March 18, 2019.
Kirsten Sutton,
Chief of Staff, Bureau of Consumer Financial Protection.

[FR Doc. 2019-05450 Filed 3-21-19; 8:45 am]

BILLING CODE 4810-AM-P